DEPARTMENT OF DEFENSE

Department of the Air Force

[Docket ID: USAF-2009-0038]

Privacy Act of 1974; System of Records

AGENCY: Department of the Air Force, DoD.

ACTION: Notice to add a system of records.

SUMMARY: The Department of the Air Force proposes to add a system of records to its inventory of record systems subject to the Privacy Act of 1974 (5 U.S.C. 552a).

DATES: The proposed action will be effective on August 3, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6489.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on June 25, 2009 to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996, (February 20, 1996, 61 FR 6427).

Dated: June 25, 2009.
Morgan E. Frazier,
Alternate OSD Federal Register Liaison Officer, Department of Defense.

F010 AFMC

System Name:

Deliberate and Crisis Action Planning and Execution Segment (DCAPES) Records.

System Location:

Headquarters of Major Commands, field operating agencies, Air Force Military Personnel Elements, Air Force Reserve units and Air Force National Guard units. Complete mailing address listings are maintained by the Deliberate and Crisis Action Planning and Execution Segment (DCAPES) Program Management Office at the 554th Electronic Systems Group, 201 East Moore Drive, Maxwell Air Force Base, Gunter Annex, Alabama 36114-3004.

Categories of individuals covered by the system:

Air Force active duty military, Reserve and Air National Guard personnel and Department of the Air Force Civilians. Records are maintained on officer and enlisted personnel that are projected or departed on Temporary Duty (TDY) in support of contingency, crisis or manning assist deployments.

Categories of records in the system:

Includes Operational Plan Identification (OPLAN); Force Requirement Number (FRN); attached Military Personnel Element (MPE); geographical location, grade, name, address and Social Security Number (SSN).

Authority for maintenance of the system:

10 U.S.C. 8032, The Air Staff, general duties; Air Force Policy Directive 10-4, Operations Planning Air & Space Expeditionary Force Presence Policy; Air Force Instruction 10-401, Air Force Operations Planning & Execution; Air Force Instruction 10-403, Deployment Planning & Execution; Air Force Instruction 36-3802, Personnel Readiness and E.O. 9397 (SSN).

Purpose:

The system integrates automated decision support applications and information exchange capabilities to provide the Air Force the means to plan, present, source, mobilize, deploy, account for, sustain, redeploy, and reconstitute forces. Deliberate and Crisis Action Planning and Execution Segment (DCAPES) is the United States Air Force's system of records for managing Operational Plan requirements.

Routine uses of records maintained in the system, including categories of users and the purposes of such uses:

In addition to those disclosures generally permitted under 5 U.S.C 552a(b) of the Privacy Act of 1974, these records contained therein may specifically be disclosed outside the DoD as a routine use pursuant to 5 U.S.C 552a(b) as follows:

The DoD “Blanket Routine Uses” published at the beginning of the Air Force's compilation of systems of records notices apply to this system.

Policies and practices for storing, retrieving, accessing, retaining and disposing of records in the system:

Storage:

Electronic storage media.

Retrievability:

By first name, last name and Social Security Number (SSN).

Safeguards:

Records are accessed by person(s) responsible for servicing the record system in performance of their official duties and by authorized personnel who are properly screened and cleared for need-to-know. Individuals require a minimum Secret security clearance for access to any portion of Deliberate and Crisis Action Planning and Execution Segment (DCAPES.)

Retention and disposal:

Records are maintained for the duration of an operation period then are programmatically moved to a history file. Records pertaining to wartime plans are maintained until an updated plan is received. Computer output records are destroyed in accordance with classification handling guidance.

System manager(s) and address:

System Program Manager (SPM), Commander, Headquarters Electronic Systems Center, 4225 Logistics Avenue, Bldg 266, Wright Patterson Air Force Base, Ohio 45433-5769; DCAPES Program Management Office (PMO), 554th Electronic Systems Group, 201 East Moore Drive, Maxwell AFB, Gunter Annex, Alabama 36114-3004.

Notification procedure:

Individuals seeking to determine whether this system of records contains information on themselves should address inquiries to the Headquarters Electronic Systems Center, 4225 Logistics Avenue, Building 266, Wright Patterson Air Force Base, Ohio 45433-5769.

Request must contain full name, Social Security Number (SSN) and current mailing address.

Record access procedures:

Individuals seeking to access records about themselves contained in this system should address requests to the Headquarters Electronic Systems Center, 4225 Logistics Avenue, Building 266, Wright Patterson Air Force Base, Ohio 45433-5769.

Request must contain full name, Social Security Number (SSN) and current mailing address.

Contesting record procedures:

The Air Force rules for access to records, and for contesting and appealing initial agency determinations by the individual concerned are published in Air Force Instruction 33-332, Privacy Act Program, 32 CFR part 806b, or may be obtained from the system manager.

Record source categories:

Information obtained from automated external system interfaces.

Exemptions claimed for the system:

None.

[FR Doc. E9-15626 Filed 7-1-09; 8:45 am]

BILLING CODE 5001-06-P